DEPARTMENT OF COMMERCE

Patent and Trademark Office

[Docket No.: PTO-C-2022-0039]

Trademarks for Humanity Awards Competition Program

AGENCY: United States Patent and Trademark Office, Department of Commerce.

ACTION: Notice; extension of application submission deadline.

SUMMARY: The United States Patent and Trademark Office (USPTO) is extending the application submission deadline for the pilot awards program announced in the Federal Register Notice titled “Trademarks for Humanity Awards Competition Program” that was published on April 11, 2023.

DATES: The USPTO will now accept applications through September 15, 2023, or until 200 applications are received, whichever occurs first.

ADDRESSES: Applications must be submitted electronically via an online application portal that applicants can access from the USPTO's Trademarks for Humanity web page at www.uspto.gov/ip-policy/trademarks-humanity-awards-program.

FOR FURTHER INFORMATION CONTACT: Anna Manville, Attorney-Advisor, USPTO, at anna.manville@uspto.gov or 571-272-9300; or Branden Ritchie, Senior-level Attorney, USPTO, at branden.ritchie@uspto.gov or 571-272-9300.

SUPPLEMENTARY INFORMATION: On April 11, 2023, the USPTO published a Federal Register Notice titled “Trademarks for Humanity Awards Competition Program,” announcing a pilot awards program to promote and incentivize the use of trademarks in connection with the provision of goods and services that address humanitarian issues. See 88 FR 21650. The USPTO is now extending the application submission period until September 15, 2023, to ensure that stakeholders have a sufficient opportunity to submit applications.

All other information and instructions to applicants provided in the April 11, 2023, notice remain unchanged. Any applications received after the close of the previous deadline of July 14, 2023, and before the publication date of this notice will be treated as timely and given full consideration.

Katherine K. Vidal,
Under Secretary of Commerce for Intellectual Property and Director of the United States Patent and Trademark Office.

[FR Doc. 2023-15566 Filed 7-21-23; 8:45 am]

BILLING CODE 3510-16-P